DEPARTMENT OF ENERGY

Federal Energy Regulatory Commission

Notice of Application for Amendment of License and Soliciting Comments, Motions to Intervene, and Protests

March 15, 2001.

Take notice that the following hydroelectric application has been filed with the Commission and is available for public inspection:

a. Application Type: Amendment of License.

b. Project No.: 2413-043.

c. Date Filed: January 2, 2001.

d. Applicant: Georgia Power Company.

e. Name of Project: Wallace Dam.

f. Location: The Wallace Dam Project is located on the Oconee River in Putnam, Hancock, Greene, Morgan, Oconee, and Oglethorpe Counties, Georgia. The project does not utilize federal or tribal lands.

g. Filed Pursuant to: Federal Power Act, 16 U.S.C. 791(a)-825(r)

h. Applicant's Contact: Mike Phillips, Georgia Power Company, 241 Ralph McGill Boulevard NE, Atlanta, GA 30308-3374, (404) 506-2392.

i. FERC Contact: Any questions on this notice should be addressed to Mr. Sean Murphy, e-mail address sean.murphy@ferc.fed.us, or telephone 202-219-2964.

j. Deadline for filing comments, motions, to intervene and protest: 30 days from the issuance date of this notice.

All documents (original and eight copies) should be filed with: David P. Boergers, Secretary, Federal Energy Regulatory Commission, 888 First Street, NE, Washington, DC 20426. Comments, protests and interventions may be filed electronically via the internet in lieu of paper. See, 18 CFR 385.2001(a)(1)(iii) and the instructions on the Commission's website at http://www.ferc.fed.us/efi/doorbell.htm. Please include the project number (P-2413-043) on any comments or motions filed.

The Commission's Rules of Practice and Procedure require all interveners filing documents with the Commission to serve a copy of that document on the official service list for the project. Further, if an intervener files comments or documents with the Commission relating to the merits of an issue that may affect the responsibilities of a particular resource agency, the intervener also must serve a copy of the document on that resource agency.

k. Description of Amendment: Georgia Power Company, licensee for the Wallace Dam Project, requests Commission authorization to permit the City of Greensboro, GA, to increase the rate of water withdrawal at their intake facility from 3.8 cubic feet per second (cfs)¹, 2.45 million gallons per day (MGD), from Lake Oconee, to 3.3 MGC.

¹ FERC 25 ¶62,058, Order Approving Change in Land Rights, issued July 29, 1980.

l. Locations of the Application: A copy of the application is available for inspection and reproduction at the Commission's Public Reference room, located at 888 First Street NE, Room 2A, Washington, DC 20426, or by calling (202) 208-1371. This filing may be viewed on http://www.ferc.fed.us/online/rims.htm (call (202) 208-2222 for assistance). A copy is also available for inspection and reproduction at the address in item h, above.

m. Comments, Protests, or Motions to Intervene—Anyone may submit comments a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the subject application.

n. Filing and Service of Responsive Documents—Any filings must bear in all capital letters the title “COMMENTS”, “RECOM­MENDA­TIONS FOR THE TERMS AND CONDITIONS”, “PROTEST”, OR “MOTION TO INTERVENE”, as applicable, and the project name and number, “Martin Dam Amendment of License, No. 349-070”. Any of the above-named documents must be filed by providing the original and the number of copies provided by the Commission's regulations to: The Secretary, Federal Energy Regulatory Commission, 888 First Street, NE, Washington, DC 20426. A copy of any motion to intervene must also be served upon the representative of the APC specified in item h, above.

David P. Boergers,
Secretary.

[FR Doc. 01-6958 Filed 3-20-01; 8:45 am]

BILLING CODE 6717-01-M